DEPARTMENT OF HEALTH AND HUMAN SERVICES

Centers for Medicare & Medicaid Services

[CMS-1630-N]

Medicare Program; The Advisory Panel on Hospital Outpatient Payment (HOP Panel) Spring Meeting, March 9-10, 2015

AGENCY: Centers for Medicare & Medicaid Services (CMS), Department of Health and Human Services (HHS).

ACTION: Notice.

SUMMARY: This notice announces the spring meeting of the Advisory Panel on Hospital Outpatient Payment (the Panel) for 2015. The purpose of the Panel is to advise the Secretary of the Department of Health and Human Services (DHHS) (the Secretary) and the Administrator of the Centers for Medicare & Medicaid Services (CMS) (the Administrator) on the clinical integrity of the Ambulatory Payment Classification (APC) groups and their associated weights, and hospital outpatient therapeutic services supervision issues.

DATES: Meeting Dates: The first semi-annual meeting in 2015 is scheduled for the following dates and times. The times listed in this notice are Eastern Time (ET) and are approximate times; consequently, the meetings may be shorter than or last longer than the times listed in this notice, but will not begin before the posted times:

• Monday, March 9, 2015, 9 a.m. to 5 p.m. ET

• Tuesday, March 10, 2014, 9 a.m. to 5 p.m. ET

Meeting Information Updates

The actual meeting hours and days will be posted in the agenda. As information and updates regarding the onsite, webcast, and teleconference meeting, and agenda become available, they will be posted to the CMS Web site at: http://cms.gov/Regulations-and-Guidance/Guidance/FACA/AdvisoryPanelonAmbulatoryPaymentClassificationGroups.html

Deadlines

Deadline for Presentations and Comments

Presentations and Comments can be submitted by email only. Presentations or comments and form CMS-20017 must be in the Designated Federal Official's (DFO's) email inbox (APCPanel@cms.hhs.gov) by 5 p.m. ET, Friday, February 6, 2015. Presentations and comments that are not received by the due date will be considered late and will not be included on the agenda. (See below for submission instructions for electronic submissions.)

Meeting Registration Timeframe: Monday, January 19, 2015 through Friday, February 20, 2015 at 5 p.m. ET.

Participants planning to attend this meeting in person must register online, during the above specified timeframe at: https://www.cms.gov/apps/events/default.asp. On this Web page, double click the “Upcoming Events” hyperlink, and then double click the “HOP Panel” event title link and enter the required information. Include any requests for special accommodations.

Note: Participants who do not plan to attend this meeting in person should not register. No registration is required for participants who plan to view the meeting via webcast.

In commenting, please refer to file code CMS-1630-N. Because of staff and resource limitations, we cannot accept comments and presentations by facsimile (FAX) transmission or hard copy.

Meeting Location, Webcast, and Teleconference

The meeting will be held in the Auditorium, CMS Central Office, 7500 Security Boulevard, Woodlawn, Maryland 21244-1850. Alternately, the public may either view this meeting via a webcast or listen by teleconference. During the scheduled meeting, webcasting is accessible online at: http://cms.gov/live. Teleconference dial-in information will appear on the final meeting agenda, which will be posted on the CMS Web site when available at: http://cms.gov/Regulations-and-Guidance/Guidance/FACA/AdvisoryPanelonAmbulatoryPaymentClassificationGroups.html

FOR FURTHER INFORMATION CONTACT: Designated Federal Official (DFO):

Carol Schwartz, DFO, 7500 Security Boulevard, Mail Stop: C4-04-25, Woodlawn, MD 21244-1850.

Phone: (410) 786-3985.

Email: APCPanel@cms.hhs.gov.

Send email copies to the following address:

Email: APCPanel@cms.hhs.gov.

News Media: Representatives must contact our Public Affairs Office at (202) 690-6145.

Advisory Committees' Information Lines: The phone number for the CMS Federal Advisory Committee Hotline is (410) 786-3985.

Web Sites

For additional information on the Panel and updates to the Panel's activities, we refer readers to view our Web site at: http://www.cms.gov/Regulations-and-Guidance/Guidance/FACA/AdvisoryPanelonAmbulatoryPaymentClassificationGroups.html.

Information about the Panel and its membership in the Federal Advisory Committee Act (FACA) database are also located at: http://facadatabase.gov/.

SUPPLEMENTARY INFORMATION:

I. Background

The Secretary of the Department of Health and Human Services (DHHS) (the Secretary) is required by section 1833(t)(9)(A) of the Social Security Act (the Act) and section 222 of the Public Health Service Act (PHS Act) to consult with an expert outside the Advisory Panel on Hospital Outpatient Payment (the Panel) regarding the clinical integrity of the Ambulatory Payment Classification (APC) groups and relative payment weights. The Panel is governed by the provisions of the Federal Advisory Committee Act (Pub. L. 92-463), as amended (5 U.S.C. Appendix 2), to set forth standards for the formation and use of advisory panels.

The Charter provides that the Panel shall meet up to 3 times annually. We consider the technical advice provided by the Panel as we prepare the proposed and final rules to update the outpatient prospective payment system (OPPS).

II. Agenda

The agenda for the March 9, 2015 through March 10, 2015 meeting will provide for discussion and comment on the following topics as designated in the Panel's Charter:

• Addressing whether procedures within an APC group are similar both clinically and in terms of resource use.

• Evaluating APC group weights.

• Reviewing the packaging of OPPS services and costs, including the methodology and the impact on APC groups and payment.

• Removing procedures from the inpatient-only list for payment under the OPPS.

• Using single and multiple procedure claims data for CMS' determination of APC group weights.

• Addressing other technical issues concerning APC group structure.

• Recommending the appropriate supervision level (general, direct, or personal) for individual hospital outpatient therapeutic services.

The Agenda will be posted on the Centers for Medicare & Medicaid Services (CMS) Web site approximately one week before the meeting.

III. Presentations

The presentation subject matter must be within the scope of the Panel designated in the Charter. Any presentations outside of the scope of this Panel will be returned or requested for amendment. Unrelated topics include, but are not limited to, the conversion factor, charge compression, revisions to the cost report, pass-through payments, correct coding, new technology applications (including supporting information/documentation), provider payment adjustments, supervision of hospital outpatient diagnostic services and the types of practitioners that are permitted to supervise hospital outpatient services. The Panel may not recommend that services be designated as nonsurgical extended duration therapeutic services.

The Panel may use data collected or developed by entities and organizations, other than DHHS and CMS in conducting its review. We recommend organizations submit data for CMS staff and the Panel's review.

All presentations are limited to 5 minutes, regardless of the number of individuals or organizations represented by a single presentation. Presenters may use their 5 minutes to represent either one or more agenda items.

All presentations will be shared with the public. Presentations may not contain any pictures, illustrations, or personally identifiable information.

In order to consider presentations and/or comments, we will need to receive the following information by email only. We cannot accept hardcopy submittals.

1. An email copy of the presentation sent to the DFO mailbox, APCPanel@cms.hhs.gov

2. Form CMS-20017 with complete contact information that includes name, address, phone number, and email addresses for all presenters and a contact person that can answer any questions and or provide revisions that are requested for the presentation.

• Presenters must clearly explain the actions that they are requesting CMS to take in the appropriate section of the form. A presenter's relationship with the organization that they represent must also be clearly listed.

• The form is now available through the CMS Forms Web site. The Uniform Resource Locator (URL) for linking to this form is as follows: http://www.cms.hhs.gov/cmsforms/downloads/cms20017.pdf.

IV. Oral Comments

In addition to formal oral presentations, which are limited to 5 minutes total per presentation, there will be an opportunity during the meeting for public oral comments, which will be limited to 1 minute for each individual and a total of 3 minutes per organization.

V. Meeting Attendance

The meeting is open to the public; however, attendance is limited to space available. Priority will be given to those who pre-register, and attendance may be limited based on the number of registrants and the space available.

Persons wishing to attend this meeting, which is located on Federal property, must register by following the instructions in the “Meeting Registration Timeframe” section of this notice. A confirmation email will be sent to the registrants shortly after completing the registration process.

VI. Security, Building, and Parking Guidelines

The following are the security, building, and parking guidelines:

• Persons attending the meeting, including presenters, must be pre-registered and on the attendance list by the prescribed date.

• Individuals who are not pre-registered in advance may not be permitted to enter the building and may be unable to attend the meeting.

• Attendees must present a government issued photo identification to the Federal Protective Service or Guard Service personnel before entering the building. Without a current, valid photo identification, persons may not be permitted entry to the building.

• Security measures include inspection of vehicles, inside and out, at the entrance to the grounds.

• All persons entering the building must pass through a metal detector.

• All items brought into CMS including personal items, for example, laptops and cell phones are subject to physical inspection.

• The public may enter the building 30 to 45 minutes before the meeting convenes each day.

• All visitors must be escorted in areas other than the lower and first-floor levels in the Central Building.

• The main-entrance guards will issue parking permits and instructions upon arrival at the building.

• Foreign nationals visiting any CMS facility require prior approval. If you are a foreign national and wish to attend the meeting onsite, in addition to registering for the meeting, you must also send a separate email to APCPanel@cms.hhs.gov prior to the close of registration to request authorization to attend as a foreign national.

VII. Special Accommodations

Individuals requiring special accommodations must include the request for these services during registration.

VIII. Panel Recommendations and Discussions

The Panel's recommendations at any Panel meeting generally are not final until they have been reviewed and approved by the Panel on the last day of the meeting, before the final adjournment. These recommendations will be posted to our Web site after the meeting.

IX. Collection of Information Requirements

This document does not impose information collection requirements, that is, reporting, recordkeeping or third-party disclosure requirements. Consequently, there is no need for review by the Office of Management and Budget under the authority of the Paperwork Reduction Act of 1995.

Dated: October 7, 2014.
Marilyn Tavenner,
Administrator, Centers for Medicare & Medicaid Services.

[FR Doc. 2014-24755 Filed 10-16-14; 8:45 am]

BILLING CODE 4120-01-P